DEPARTMENT OF COMMERCE

International Trade Administration

A-570-863

Honey from the People's Republic of China: Rescission of Antidumping Duty New Shipper Review

AGENCY: Import Administration, International Trade Administration, Department of Commerce.

EFFECTIVE DATE: February 15, 2005.

SUMMARY: On May 24, 2004, the Department of Commerce (the Department) initiated a new shipper review of the antidumping duty order on honey from the People's Republic of China (PRC) covering the period December 1, 2003, through May 31, 2004. This new shipper review covered one exporter, Foodworld International Club, Ltd. (Foodworld). For the reasons discussed below, we are rescinding the review of Foodworld.

FOR FURTHER INFORMATION CONTACT: Kristina Boughton, or Bobby Wong at (202) 482-8173 or (202) 482-0409, respectively; AD/CVD Operations, Office 9, Import Administration, International Trade Administration, U.S. Department of Commerce, 14th Street and Constitution Avenue, NW, Washington, DC 20230.

SUPPLEMENTARY INFORMATION:

Background

On May 24, 2004, the Department received a timely request for a new shipper review of the antidumping duty order on honey from the PRC from Foodworld, an exporter of the subject merchandise sold to the United States. On August 5, 2004, the Department initiated a new shipper review of Foodworld under the antidumping duty order on honey from the PRC for the period December 1, 2003, through May 31, 2004. See Honey From The People's Republic of China: Initiation of New Shipper Antidumping Duty Review, 69 FR 47407. On August 24, 2004, the Department issued an antidumping duty questionnaire to Foodworld. Foodworld submitted its Section A response on October 4, 2004, its Section C response on October 8, 2004, and its Section D response on October 12, 2004. On December 22, 2004, the Department issued a supplemental questionnaire to Foodworld. On January 14, 2005, Foodworld submitted a letter informing the Department of its wish to withdraw from this new shipper review and asking the Department to terminate the review.

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Rescission of New Shipper Review

Pursuant to 19 CFR 351.214(f)(1), the Department may rescind a new shipper review if a party that requested a review withdraws its request not later than 60 days after the date of publication of notice of initiation of the requested review. Although Foodworld withdrew its request for a new shipper review on January 14, 2005, which is after the expiration of the 60-day deadline, the Department nevertheless has the discretion to extend the time period for withdrawal on a case-by-case basis. See e.g., Certain Preserved Mushrooms from the People's Republic of China: Notice of Partial Rescission of Seventh New Shipper Review, 69 FR 22004 (April 23, 2004). We find it reasonable to extend the deadline for withdrawal in this case because we had not yet committed significant resources to this new shipper review. Specifically, we had not begun calculating an antidumping duty margin for Foodworld nor had we verified any of Foodworld's data. Furthermore, Foodworld was the only party to request a review, and we did not receive any submissions opposing Foodworld's withdrawal of its request for review. Finally, we note that our decision to rescind this new shipper review with respect to Foodworld would not prejudice any party to this proceeding, as Foodworld will continue to be included in the PRC-wide rate to which it was subject at the time it requested this review. For these reasons, we have accepted Foodworld's withdrawal and are rescinding the new shipper review of the antidumping duty order on honey from the PRC in accordance with 19 CFR 351.214(f)(1).

Cash Deposits

The Department will notify U.S. Customs and Border Protection (CBP) that bonding is no longer permitted to fulfill security requirements for shipments from Foodworld of honey from the PRC entered or withdrawn from warehouse for consumption in the United States on or after the publication of this notice of rescission of antidumping duty new shipper review in the Federal Register. Further, effective upon publication of this notice, for all shipments of the subject merchandise exported by Foodworld and entered or withdrawn from warehouse for consumption, the cash deposit rate will be the PRC-wide rate, which is 183.80 percent.

Notification to Interested Parties

This notice serves as a reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

Notification to Parties Subject to Administrative Protective Orders

This notice serves as a reminder to parties subject to administrative protective orders (APO) of their responsibility concerning the disposition of proprietary information disclosed under APO in accordance with section 351.305(a)(3) of the Department's regulations. Timely written notification of the return/destruction of APO material or conversion to judicial protective order is hereby requested. Failure to comply with the regulations and terms of an APO is a violation, which is subject to sanctions.

We are issuing and publishing this determination and notice in accordance with sections 751(a)(2)(B) and 777(i)(1) of the Tariff Act of 1930, as amended, and 19 CFR 351(f)(3).)

Dated: February 8, 2005.
Barbara E. Tillman,
Acting Deputy Assistant Secretary for Import Administration.

[FR Doc. E5-630 Filed 2-14-05; 8:45 am]

BILLING CODE 3510-DS-S